DEPARTMENT OF DEFENSE

Office of the Secretary

[Docket ID DoD-2013-OS-0169]

Submission for OMB Review; Comment Request

ACTION: Notice.

SUMMARY: The Department of Defense has submitted to OMB for clearance, the following proposal for collection of information under the provisions of the Paperwork Reduction Act.

DATES: Consideration will be given to all comments received by August 28, 2014.

FOR FURTHER INFORMATION CONTACT: Fred Licari, 571-372-0493.

SUPPLEMENTARY INFORMATION:

Title, Associated Form and OMB Number: Research Performance Progress Report (RPPR); OMB Number: 0704-TBD.

Type of Request: New.

Number of Respondents: 2,000.

Responses per Respondent: 2.

Annual Responses: 4,000.

Average Burden per Response: 6 hours.

Annual Burden Hours: 24,000.

Needs and Uses: DoD research grants and cooperative agreements require recipients to periodically report on progress made towards achieving the objectives of their awards, and to document accomplishments and identify reasons for failure to meet planned objectives. This periodic reporting is required by section 32.51 of 32 CFR part 32, the DoD implementation of OMB Circular A-110. In April 2010, the Office of Management and Budget (OMB) and Office of Science and Technology (OSTP) issued a policy memorandum to the heads of Executive Departments and Agencies on usage of a new format—the Research Performance Progress Report (RPPR)—for doing interim progress reporting (e.g., annual reports during the award performance period, other than the final report that is due after the end of that period). The information collection requirement under this Notice is part of the Department's implementation of the RPPR, usage of which will consolidate interim progress reporting requirements of the multiple DoD offices that award research grants and cooperative agreements. DoD's implementation of the RPPR will:

• Make DoD research offices' requirements for grants and cooperative agreements more uniform with each other, as each office has historically specified its reporting requirements separately from other awarding offices.

• Make DoD offices' reporting requirements more common with those of other Federal agencies that make research awards, as each of them implements the guidance from OMB and OSTP.

• Enable broadening of RPPR usage to basic research contracts awarded by DoD offices, any of which may adopt the RPPR format for basic research contract progress reporting in lieu of their existing basic research contract reporting requirements. This will benefit entities having both research grant and contract awards, and is consistent with the joint OMB and OSTP policy memorandum.

Affected Public: Colleges and universities, nonprofit organizations, business and industry.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: July 24, 2014.
Aaron Siegel,
Alternate OSD Federal Register Liaison Officer, Department of Defense.

[FR Doc. 2014-17795 Filed 7-28-14; 8:45 am]

BILLING CODE 5001-06-P